DEPARTMENT OF COMMERCE

National Oceanic and Atmospheric Administration

Federal Consistency Appeal by Broadwater Energy LLC and Broadwater Pipeline LLC

AGENCY: National Oceanic and Atmospheric Administration (NOAA), Department of Commerce.

ACTION: Notice of Appeal.

SUMMARY: This announcement provides notice that Broadwater Energy LLC and Broadwater Pipeline LLC (collectively, Broadwater), have filed an administrative appeal with the Department of Commerce (Department), asking that the Department override an objection by the New York State Department of State (New York). New York objects to Broadwater's proposal to construct and operate a floating liquefied natural gas (LNG) terminal and associated pipeline, that would be located in the New York waters of Long Island Sound.

ADDRESSES: Materials from the appeal record will be available at the NOAA Office of General Counsel for Ocean Services, 1305 East-West Highway, Room 6111, Silver Spring, MD 20910 and on the following Web site: http://www.ogc.doc.gov/czma.htm.

FOR FURTHER INFORMATION CONTACT: Ted Beuttler, Attorney-Advisor, NOAA Office of the General Counsel, 301-713-7383.

SUPPLEMENTARY INFORMATION:

I. Notice of Appeal

On June 6, 2008, Broadwater filed notice of an appeal with the Department, pursuant to the Coastal Zone Management Act of 1972 (CZMA), 16 U.S.C. 1451 et seq., and implementing regulations found at 15 CFR Part 930, Subpart H. Broadwater appealed an objection by New York to Broadwater's proposal to construct and operate a floating LNG terminal and associated pipeline, that would be located in the New York waters of Long Island Sound.

Under the CZMA, the Department may override New York's objection on grounds that the project is consistent with the objectives or purposes of the CZMA or otherwise necessary in the interest of national security. To make the determination that the proposed activity is “consistent with the objectives or purposes of the CZMA,” the Department must find that: (1) The proposed activity furthers the national interest as articulated in sections 302 or 303 of the CZMA, in a significant or substantial manner; (2) the adverse effects of the proposed activity do not outweigh its contribution to the national interest, when those effects are considered separately or cumulatively; and (3) no reasonable alternative is available that would permit the activity to be conducted in a manner consistent with enforceable policies of the applicable coastal management program. 15 CFR 930.121.

II. Appeal Documents

NOAA intends to provide the public with access to all publicly available materials and related documents comprising the appeal record during business hours, at the NOAA Office of General Counsel for Ocean Services. For additional information about this appeal, please contact Ted Beuttler, 301-713-7383.

Dated: July 2, 2008.
Joel La Bissonniere,
Assistant General Counsel for Ocean Services, NOAA.

[Federal Domestic Assistance Catalog No. 11.419 Coastal Zone Management Program Assistance.]

[FR Doc. E8-15468 Filed 7-3-08; 8:45 am]

BILLING CODE 3510-08-P